POSTAL SERVICE

39 CFR Part 230

Responsibilities of the Office of Inspector General

AGENCY: Postal Service.

ACTION: Final rule.

SUMMARY: The Postal Service is amending the Code of Federal Regulations to reflect the role the Inspector General plays in the audit, investigative, and oversight activity of the Postal Service. This is the first comprehensive revision of the Postal Service Inspector General regulations since the independent postal Inspector General came into existence in 1997. The intent of this revision is to clarify the responsibilities and duties of the Inspector General for postal customers and employees.

DATES: Effective April 4, 2002.

FOR FURTHER INFORMATION CONTACT: Andrea Bernardo, Managing Counsel, Legal Services, Office of Inspector General, 703-248-4676.

SUPPLEMENTARY INFORMATION: The primary responsibility of the Office of Inspector General is to conduct audits and investigations to prevent, detect, and report fraud, waste, abuse, and mismanagement; to promote efficiency in the programs and operations of the Postal Service, and to provide oversight of the Inspection Service.

The 1996 amendments to the Inspector General Act (Act) created an independent inspector general for the Postal Service. The responsibility of serving as the inspector general was removed from the Chief Postal Inspector. The basic purpose of the Act was to strengthen audit and investigative activities in order to obtain greater efficiency and effectiveness in federal government operations. This purpose was to be achieved by consolidating audit and investigative units under a single individual reporting directly to the agency head; providing protections designed to ensure that the new offices had independence and authority to carry out their responsibilities; and by requiring periodic reports to agency heads and Congress on their activities.

Section 2 of the Act specifically provided that the Inspector General shall audit all programs and operations of the Postal Service. With the creation of the independent postal inspector general, representatives of the Inspection Service and the Office of Inspector General met to work out the transition of selected functions from the Inspection Service to the Office of Inspector General. After several negotiation sessions, the two parties agreed to a formal designation of functions. As a result, certain activities formerly performed by the Inspection Service were now to be performed by the Office of Inspector General. References in Title 39 of Code of Federal Regulations citing the Inspection Service as the party responsible for a variety of audit and oversight duties became outdated. This situation has been thoroughly addressed in this revision. The inaccurate references to the Inspector Service and the Chief Postal Inspector have been corrected. A new Part 230, relating to the Office of Inspector General, is hereby created.

List of Subjects in 39 CFR Part 230

Freedom of information, Organization functions and authority delegations, Privacy.

For the reasons stated in the preamble, the Postal Service amends 39 CFR by adding the following new part 230, as follows:

PART 230—OFFICE OF INSPECTOR GENERAL

Sec.
230.1 Establishment and authority.
230.2 Access to information and other responsibilities.
230.3 Cooperation with the Office of Inspector General.
230.4 Arrest and investigative powers of criminal investigators.
230.5 Release of information.

Authority: Inspector General Act of 1978, as amended (Pub. L. 95-452, as amended), 5 U.S.C. App. 3; 39 U.S.C. 401(2).

§ 230.1 Establishment and authority.

(a) There is established, pursuant to the Inspector General Act of 1978, as amended (5 U.S.C. App.3), and 39 U.S.C. 410, an independent Office of Inspector General.

(b) The Inspector General reports directly to the nine presidentially appointed Governors and shall not be supervised by, nor report to, the Postmaster General and/or any designee appointed by the Postmaster General.

(c) The Office of Inspector General includes an Inspector General, an Assistant Inspector General for Audit, and an Assistant Inspector General for Investigations. The Office of Inspector General maintains its own legal counsel independent of the Postal Service Law Department for matters that are within the jurisdiction of the Office.

(d) The Office of Inspector General is responsible for detecting and preventing fraud, waste, and abuse in the programs and operations of the Postal Service, and for reviewing existing and proposed legislation and regulations relating to the programs and operations of the Postal Service.

(e) The Inspector General has oversight responsibilities for all activities of the Postal Inspection Service. The Chief Postal Inspector must promptly report to the Inspector General significant activities and other information related to the Inspection Service as required by law.

(f) The Inspector General has sole responsibility for directing the Office of Inspector General, including the authority to select, appoint, and employ such officers and employees that the Inspector General deems necessary and appropriate to fulfill the mission of the Office. In addition, the Inspector General may delegate to such officers and employees of the Inspector General such powers, duties, and responsibilities, as the Inspector General deems necessary and appropriate for the proper functioning of the Office.

(g) All employees in the Office of Inspector General shall take and subscribe to the oath of office required of all Postal Service employees under 39 U.S.C. 1011, and the Inspector General, or designee, is authorized to administer such oath and affirmation.

(h) The Inspector General has the authority to enter into contracts or other arrangements with public agencies and with private entities, and to make such payments as may be necessary to carry out the duties and responsibilities of the Office of Inspector General.

(i) The Inspector General may hire and retain the services of expert consultants and other personnel as necessary to fulfill the duties and responsibilities of the Office.

(j) Except as required by law, the Governors may not transfer to the Inspector General responsibility for performing any of the program activities of the Postal Service.

§ 230. 2 Access to information and other responsibilities.

(a) The Inspector General has authority to have access to all postal records, reports, audits, reviews, documents, papers, information, and other material relating to any matter related to the responsibilities of the Inspector General;

(b) The Inspector General shall be the Investigating Official for purposes of the Program Fraud Civil Remedies Act.

§ 230.3 Cooperation with the Office of Inspector General.

(a) All Postal Service employees shall cooperate with all audits, reviews, and investigations conducted by the Office of Inspector General. Deliberately submitting information known to be false or misleading to the Office of Inspector General or failing to cooperate with all audits, reviews, and investigations conducted by the Office of Inspector General may be grounds for disciplinary or other legal action.

(b) Any employee who has authority to take, direct another to take, recommend or approve any personnel action shall not retaliate against any employee as a reprisal for cooperating and assisting with any Office of Inspector General audit, review, or investigation (including reporting facts or information to the Office of Inspector General that leads to any audit, review, or investigation).

§ 230.4 Arrest and investigative powers of criminal investigators.

Under the authority of 18 U.S.C. 3061, criminal investigators employed by the Office of Inspector General are authorized to perform the following functions in connection with their official duties:

(1) Serve warrants and subpoenas issued under the authority of the United States;

(2) Make arrests without warrant for offenses against the United States committed in their presence;

(3) Make arrests without warrant for felonies cognizable under the laws of the United States if they have reasonable grounds to believe that the person to be arrested has committed or is committing such a felony;

(4) Carry firearms; and

(5) Make seizures of property as provided by law.

§ 230.5 Release of information.

(a) The Office of Inspector General is responsible for maintaining and storing its own records and for assuring compliance with applicable records management, retention, and disclosure requirements.

(b) The Inspector General or a designee serves as the official custodian of the records and documents of the Office of Inspector General and is responsible for administering the rules and regulations relating to public availability of Postal Service Office of Inspector General records insofar as the information is subject to the provisions of the Freedom of Information Act, contained in Section 552 of Title 5 of the U.S. Code and 39 U.S.C. 410 (c), and/or the Privacy Act, Section 552a of Title 5 of the U.S. Code.

(c) Requests for records and information under the Freedom of Information Act or Privacy Act should be submitted in writing to the Office of Inspector General, Freedom of Information/Privacy Act Officer, located at 1735 N. Lynn Street, Arlington, Virginia, 22209-2020.

(d) The Office of Inspector General shall comply with and adhere to the procedures governing the release of information maintained by the U.S. Postal Service as set forth in Part 265 and related provisions of these regulations to the extent such procedures do not conflict with any provision in this part.

(e) Appeals from the denial of any request for information should be directed to the General Counsel for the Office of Inspector General, who is responsible for deciding any timely appeals authorized under this section.

(f) Postal Service records in the custody of the Office of Inspector General that contain proprietary information will not be released by the Inspector General without consultation with the appropriate Postal Service official responsible for the record.

Stanley F. Mires,
Chief Counsel, Legislative.

[FR Doc. 02-8104 Filed 4-3-02; 8:45 am]

BILLING CODE 7710-12-P